FEDERAL MINE SAFETY AND HEALTH REVIEW COMMISSION

Sunshine Act Meeting

September 27, 2005.

TIME AND DATE: 11 a.m., Thursday, October 6, 2005.

PLACE: The Richard V. Backley Hearing Room, 9th Floor, 601 New Jersey Avenue, NW., Washington, DC.

STATUS: Open.

MATTERS TO BE CONSIDERED: The Commission will consider and act upon the following in open session: Secretary of Labor v. Elk Run Coal Company, Inc., Docket No. WEVA 2003-149. (Issues include whether the judge applied the proper legal standard in determining whether a violation 30 CFR 75.220(a)(1) (failure to comply with a roof control plan) was significant and substantial.)

Any person attending this meeting who requires special accessibility features and/or auxiliary aids, such as sign language interpreters, must inform the Commission in advance of those needs, subject4 to 29 CFR 2706.150(a)(3) and § 2706.160(d).

CONTACT PERSON FOR MORE INFO: Jean Ellen, (202) 434-9950/(202) 708-9300 for TDD Relay/1-800-877-8339 for toll free.

Jean H. Ellen,
Chief Docket Clerk.

[FR Doc. 05-20090 Filed 10-3-05; 12:16 pm]

BILLING CODE 6735-01-M